DEPARTMENT OF DEFENSE

Department of the Navy

Notice of Intent To Prepare a Supplemental Environmental Impact Statement (EIS) to the Land Acquisition and Airspace Establishment Final EIS at the Marine Corps Air Ground Combat Center, Twentynine Palms, California

AGENCY: Department of the Navy, DoD.

ACTION: Notice.

SUMMARY: Pursuant to Section 102(2)(C) of the National Environmental Policy Act (NEPA) of 1969, as implemented by the Council on Environmental Quality Regulations (40 CFR parts 1500-1508), the Department of the Navy (DON) announces its intent to prepare a Supplemental Environmental Impact Statement (EIS) to evaluate the potential environmental impacts that may result from implementing alternative desert tortoise translocation plans at the Marine Corps Air Ground Combat Center, Twentynine Palms (hereinafter “the Combat Center”). The Supplemental EIS is a supplement to the Final EIS for “Land Acquisition and Airspace Establishment to Support Large-Scale Marine Air Ground Task Force Live Fire and Maneuver Training” dated July 2012 (hereinafter “2012 Final EIS”) (77 FR 44234).

SUPPLEMENTARY INFORMATION: Pursuant to 40 CFR 1502.9(c), a Supplemental EIS is being prepared to evaluate new information relevant to environmental concerns associated with translocation of tortoises from specific training areas on newly acquired lands. Translocation was deemed necessary to mitigate the moderate to high levels of impact on the tortoise population from the Marine Expeditionary Brigade training activities assessed in the 2012 Final EIS. Since the 2012 Final EIS, the Marine Corps has conducted additional detailed studies and worked cooperatively with the United States Fish and Wildlife Service (USFWS), the California Department of Fish and Wildlife, and the Bureau of Land Management (BLM) on alternative translocation plans for the desert tortoise, as required in a 2012 Biological Opinion (BO) issued by the USFWS. In light of new information gained from these efforts, the DON has elected to prepare a Supplemental EIS focusing on the evaluation of potential impacts from alternative tortoise translocation plans.

The purpose of the proposed action evaluated in the Supplemental EIS is to study alternative translocation plans in support of the project that was described in the 2012 Final EIS, selected in the 2013 Record of Decision (ROD) (78 FR 11632), and authorized by the National Defense Authorization Act for Fiscal Year 2014.

The Marine Corps needs to implement the proposed action to satisfy requirements identified in the 2012 Final EIS and associated 2012 BO. The 2012 BO concluded that the implementation of the Preferred Alternative from the 2012 Final EIS would likely result in the “take” of desert tortoises associated with military training, tortoise translocation efforts, and authorized and unauthorized Off-Highway Vehicle (OHV) use by recreationists displaced from former areas of the Johnson Valley OHV Area.

The 2013 ROD and associated BO committed the Marine Corps to undertake measures to minimize the “take” of desert tortoises including:

• Establishment of new Special Use Areas (tortoises habitat areas where military training and Off-Highway Vehicle use will be prohibited;

• Translocation Program;

• Desert Tortoise Headstarting and Population Augmentation; and

• Monitoring.

While the 2012 Final EIS and associated BO analyzed a particular translocation program, additional detailed studies and cooperative work on alternative translocation plans for the desert tortoise revealed other possible methods of meeting these requirements. In light of the purpose and need for the proposed action, the DON has identified two potential action alternatives and a No-Action Alternative for the translocation of desert tortoise from training impact areas.

Each alternative will identify recipient sites (to which tortoises would be translocated), and control sites (where the resident tortoise populations will be studied to provide comparative data on survival, threats to survival, habitat stability and changes, and health and disease relative to the translocated tortoise populations at the recipient sites). Each alternative will also include details of the proposed tortoise translocation, including specific handling procedures, fencing, clearance surveys, 30 years of post-translocation monitoring, and other research activities.

The Combat Center identified and applied screening criteria from the 2011 USFWS revised recovery plan for the Mojave population of the desert tortoise and the 2011 USFWS guidance for translocation of desert tortoises to evaluate and select the proposed recipient sites/areas under each alternative. These criteria relate to land use, habitat quality, population levels, disease prevalence, and distance from collection. The Combat Center also screened for research and monitoring feasibility.

Under the No-Action Alternative, the Marine Corps would conduct translocation of desert tortoises in accordance with the General Translocation Plan (GTP) described in the 2012 BO. Alternatives 1 and 2 primarily differ from the No Action Alternative in the selection of proposed recipient and control areas and in the distribution of desert tortoises at each release site. Compared to the No Action Alternative, Alternatives 1 and 2 would also include additional research studies and reflect updated information obtained from the 3-year program of surveys conducted since the 2012 Final EIS. Alternative 2 differs from Alternative 1 in that: (1) One less recipient site would be used; (2) the pairing of control sites to recipient sites would be different; (3) the Bullion control site would be located on the Combat Center instead of within the Cleghorn Lakes Wilderness Area; and (4) translocation densities would be different.

The Supplemental EIS will analyze environmental effects associated primarily with biological resources, land use, air quality, and cultural resources. The Supplemental EIS analysis will evaluate direct, indirect, short-term and long-term impacts, as well as cumulative impacts from other relevant activities. Additionally, the DON will undertake any consultations required by all applicable laws or regulations.

BLM has been invited to be a Cooperating Agency on the preparation of the Supplemental EIS since many of the lands to which tortoises would be relocated are managed by BLM.

Pursuant to 40 CFR 1502.9(c)(4), the DON will prepare, circulate, and file the Supplemental EIS in the same fashion (exclusive of scoping) as it did the draft and 2012 Final EIS. This will include providing a Draft Supplemental EIS for a 45-day public review period in October 2016, during which three (3) public information meetings will be held in the communities of Joshua Tree, Palm Springs, and Barstow. A Notice of Availability of the Draft Supplemental EIS and Notice of Public Meetings will be published in the Federal Register, in area newspapers, and on the Supplemental EIS Web site at http://LADTT.com in advance of the release of the Draft Supplemental EIS and the public meetings. Those notices will identify further details about the public meetings and the specific opportunities and methods for the public to provide comments on the Draft Supplemental EIS.

The mailing list for the Supplemental EIS is based on the 2012 Final EIS. Those on this list will receive notices and documents related to Supplemental EIS preparation. This list includes local, state, and federal agencies with jurisdiction or other interests in the alternatives. In addition, the mailing list includes adjacent property owners, affected municipalities, and other interested parties such as conservation and off-highway vehicle organizations. Anyone wishing to be added to the mailing list may request to be added by contacting the Supplemental EIS project manager at the address below.

No decision will be made to implement any alternative until the Supplemental EIS process is completed and a ROD is signed by the Assistant Secretary of the Navy (Energy, Installations and Environment) or designee.

FOR FURTHER INFORMATION CONTACT: NEPA Program Manager (Attn: Mr. Scott Kerr), Bldg. 1418, MAGTFTC/MCAGCC, Twentynine Palms, CA 92278-8104; phone: 760-830-8190; email: Scott.Kerr@usmc.mil.

Dated: August 18, 2016.
C. Pan,
Lieutenant, Judge Advocate General's Corps, U.S. Navy, Alternate Federal Register Liaison Officer.

[FR Doc. 2016-20231 Filed 8-23-16; 8:45 am]

BILLING CODE 3810-FF-P